NUCLEAR REGULATORY COMMISSION

[NRC-2021-0153]

Geologic and Geotechnical Site Characterization Investigations for Nuclear Power Plants

AGENCY: Nuclear Regulatory Commission.

ACTION: Regulatory guide; issuance.

SUMMARY: The U.S. Nuclear Regulatory Commission (NRC) is issuing Revision 3 to Regulatory Guide (RG) 1.132, “Geologic and Geotechnical Site Characterization Investigations for Nuclear Power Plants.” It provides guidance on field investigations for determining the geologic, geotechnical, geophysical, and hydrogeologic characteristics of a prospective site for engineering analysis and design of nuclear power plants.

DATES: Revision 3 to RG 1.132 is available on December 15, 2021.

ADDRESSES: Please refer to Docket ID NRC-2021-0153 when contacting the NRC about the availability of information regarding this document. You may obtain publicly available information related to this document using any of the following methods:

• Federal Rulemaking Website: Go to https://www.regulations.gov and search for Docket ID NRC-2021-0153. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document RG 1.132 and the regulatory analysis may be found in ADAMS under Accession Nos. ML21298A054 and ML21194A177, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

Regulatory guides are not copyrighted, and NRC approval is not required to reproduce them.

FOR FURTHER INFORMATION CONTACT: Edward O'Donnell, telephone: 301-415-3317, email: Edward.ODonnell@nrc.gov and Scott Stovall, telephone: 301-415-2405, email: Scott.Stovall@nrc.gov. Both are staff of the Office of Nuclear Regulatory Research, U.S. Nuclear Regulatory Commission, Washington, DC 20555-0001.

SUPPLEMENTARY INFORMATION:

I. Discussion

The NRC is issuing RG 1.132 in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

II. Additional Information

Revision 3 to RG 1.132 was issued for public comment on August 18, 2021 with a temporary identification of Draft Regulatory Guide, DG-1392 and the NRC published a notice of the availability of DG-1392 in the Federal Register on August 18, 2021 (86 FR 46279) for a 45-day public comment period. The public comment period closed on October 4, 2021. There were no public comments on DG-1392.

III. Congressional Review Act

This RG is a rule as defined in the Congressional Review Act (5 U.S.C. 801-808). However, the Office of Management and Budget has not found it to be a major rule as defined in the Congressional Review Act.

IV. Backfitting and Issue Finality

Issuance of Revision 3, to RG 1.132 does not constitute as backfitting, as defined in section 50.109 of title 10 of the Code of Federal Regulations (10 CFR), “Backfitting,” and as described in NRC Management Directive (MD) 8.4, “Management of Backfitting, Forward Fitting, Issue Finality, and Information Requests.” Issuance of Revision 3, to RG 1.132 also does not constitute as forward fitting, as that term is defined and described in MD 8.4, or affect issue finality of any approval issued under 10 CFR part 52, “Licenses, Certificates, and Approvals for Nuclear Power Plants.” As explained in this regulatory guide, applicants and licensees are not required to comply with the positions set forth in this regulatory guide.

Dated: December 9, 2021.
For the Nuclear Regulatory Commission.
Meraj Rahimi,
Chief, Regulatory Guide and Programs Management Branch, Division of Engineering, Office of Nuclear Regulatory Research.

[FR Doc. 2021-27115 Filed 12-14-21; 8:45 am]

BILLING CODE 7590-01-P